DEPARTMENT OF THE INTERIOR

Fish and Wildlife Service

[FWS-R1-ES-2013-N213; FXES11120100000-134-FF01E00000]

Notice of Intent To Prepare a Draft Environmental Impact Statement on a Proposed Incidental Take Permit for the Na Pua Makani Project, Kahuku, Hawaii

AGENCY: Fish and Wildlife Service, Interior.

ACTION: Notice of intent; announcement of public scoping meeting; request for comments.

SUMMARY: We, the U.S. Fish and Wildlife Service (Service), intend to conduct public scoping under the National Environmental Policy Act (NEPA) to gather information to prepare a draft environmental impact statement (DEIS) related to an incidental take permit (ITP) application that Champlin Hawaii Wind Holdings, LLC (Champlin) intends to submit to the Service pursuant to the requirements of section 10(a)(1)(B) of the Endangered Species Act of 1973, as amended (ESA). The proposed permit would authorize the incidental take of listed species caused by the construction and operation of Champlin's proposed Na Pua Makani Project (Project) near Kahuku, Hawaii, for production of wind-generated electrical energy on the island of Oahu. In accordance with ESA requirements for an ITP, Champlin is preparing a habitat conservation plan (HCP) to minimize and mitigate the impacts of take of the covered species likely to be caused by the Project. The DEIS will address the impacts of, and alternatives to, issuance of the ITP and implementation of the HCP to determine if these actions may significantly affect the human environment. This notice initiates the public scoping period for the DEIS during which we invite other agencies and the public to attend a public meeting and submit oral and written comments that provide suggestions and information on the scope of issues and alternatives that should addressed in the DEIS.

DATES: A public scoping meeting will be held on November 13, 2013, from 5:30 p.m. to 9:00 p.m. at the Kahuku Village Association Community Center, 56576 Kamehameha Highway, Kahuku, Hawaii 96731. The public is invited to provide oral and written comments at this meeting related to our preparation of a DEIS for this proposed permit action. To ensure consideration of written comments, please send your written comments on or before December 5, 2013.

ADDRESSES: Comments concerning the issuance of the ITP, the development of the Na Pua Makani HCP and the preparation of the associated DEIS should be identified as such, and may be submitted by one of the following methods:

• Email: NaPuaMakanihcp@fws.gov. Include “Na Pua Makani HCP and DEIS” in the subject line of the message;

• U.S. Mail: Loyal Mehrhoff, Field Supervisor, U.S. Fish and Wildlife Service, Pacific Islands Fish and Wildlife Office, 300 Ala Moana Boulevard, Room 3-122, Honolulu, Hawaii 96850;

• In-Person Drop-off, Viewing, or Pickup: Written comments will be accepted at the public meeting on November 13, 2013, or can be dropped off during regular business hours at the above address on or before December 5, 2013; or

• Written comments can also be faxed (Fax: (808) 792-9581, Attn.: Loyal Mehrhoff) to the Service on or before December 5, 2013.

FOR FURTHER INFORMATION CONTACT: Mr. Loyal Mehrhoff or Aaron Nadig, U.S. Fish and Wildlife Service (see ADDRESSES above); by telephone (808) 792-9400; or by email at NaPuaMakanihcp@fws.gov. If you use a telecommunications device for the deaf, please call the Federal Information Relay Service at (800) 877-8339.

SUPPLEMENTARY INFORMATION:

Reasonable Accommodation

Persons needing reasonable accommodations to attend and participate in the public meeting should contact Loyal Mehrhoff or Aaron Nadig (see FOR FURTHER INFORMATION CONTACT above). Please note that the meeting location is accessible to wheelchair users. To allow sufficient time to process requests, please call no later than 1 week in advance of the meeting.

Background

Section 9 of the ESA and the implementing regulations for the ESA in the Code of Federal Regulations (CFR) at 50 CFR part 17 prohibit the “take” of fish or wildlife species listed as endangered or threatened. Take of listed fish or wildlife is defined under the ESA as “to harass, harm, pursue, hunt, shoot, wound, kill, trap, capture, or collect, or to attempt to engage in any such conduct” (16 U.S.C. 1532). The term “harass” is defined in the regulations as “an intentional or negligent act or omission which creates the likelihood of injury to wildlife by annoying it to such an extent as to significantly disrupt normal behavioral patterns which include, but are not limited to, breeding, feeding, or sheltering” (50 CFR 17.3). The term “harm” is defined in the regulations as “an act which actually kills or injures wildlife. Such act may include significant habitat modification or degradation where it actually kills or injures wildlife by significantly impairing essential behavioral patterns, including breeding, feeding, and sheltering” (50 CFR 17.3).

Under limited circumstances, we issue permits to authorize incidental take—i.e., take that is incidental to, and not the purpose of, the carrying out of an otherwise lawful activity. Regulations governing ITPs for threatened and endangered species are found at 50 CFR 17.32 and 17.22, respectively. In addition to meeting other criteria, an ITP must not jeopardize the continued existence of federally listed threatened or endangered species. Section 10(a)(1)(B) of the ESA contains provisions for issuing such ITPs to non-Federal entities for the take of endangered and threatened species, provided the permit and related conservation plan meet the following criteria: (1) The taking will be incidental; (2) the applicant will, to the maximum extent practicable, minimize and mitigate the impact of such taking; (3) the applicant ensures that adequate funding for the plan will be provided; (4) the taking will not appreciably reduce the likelihood of the survival and recovery of the species in the wild; and (5) the applicant will carry out any other measures that the Service may require as being necessary or appropriate for the purposes of the HCP.

NEPA (42 U.S.C. 4321 et seq.) requires that Federal agencies conduct an environmental analysis of their proposed actions to determine if the actions may significantly affect the human environment. Under NEPA, a reasonable range of alternatives to a proposed project is developed and considered in the Service's environmental review. Alternatives considered for analysis in an EIS for an HCP may include, but are not limited to: Variations in the scope of covered activities; variations in the location, amount, and type of conservation activities; variations in permit duration; or a combination of these elements.

Proposed Action

Champlin's proposed Project would be located on private and public lands near the town of Kahuku, County of Honolulu, on the island of Oahu, Hawaii. The proposed Project would provide up to 45 megawatt capacity of renewable wind-generated electrical energy to the island of Oahu. A portion of the Project would be located on State of Hawaii lands managed by the Department of Land and Natural Resources (DLNR). The proposed Project's location is adjacent to the existing Kahuku Wind Farm. The Project would be completed in two phases. Phase 1 is anticipated to include approximately eight turbines and phase 2 is anticipated to include approximately six turbines. Supporting infrastructure for the proposed Project may include access roads, wind turbine assembly lay down areas, overhead and underground transmission and collector lines, and may also include an on-site substation and an operations and maintenance building.

Champlin proposes to develop an HCP as part of their application for an ITP under section 10(a)(1)(B) of the ESA. The proposed HCP will cover potential take of the federally-listed species discussed below that is incidental to activities associated with the construction, operation, maintenance, and decommissioning of the Project. The HCP will include measures to minimize and mitigate impacts to covered species and their habitats.

The proposed Federal action would be the issuance of an ITP to Champlin to authorize incidental take of the covered species, subject to compliance with and implementation of Champlin's HCP for the Project. We anticipate Champlin to request ITP coverage for a period of 20 years.

Covered Species

Champlin intends to seek incidental take coverage for the following five federally-listed threatened and endangered species:

• Newell's shearwater (Puffinus auricularis newelli)—Threatened;

• Hawaiian coot (Fulica americana alai)—Endangered;

• Hawaiian common moorhen (Gallinula chloropus sandvicensis)—Endangered;

• Hawaiian stilt (Himantopus mexicanus knudseni)—Endangered; and

• Hawaiian hoary bat (Lasiurus cinereus semotus)—Endangered.

The following State-listed endangered species may also be included as a covered species in Champlin's proposed HCP:

• pueo or Hawaiian short-eared owl (Asio flammeus sandwichensis).

The final list of covered species may include the above listed species, a subset, or additional species, based on the outcome of the planning process.

Public Scoping

The primary purpose of the scoping process is for the public to assist the Service in developing a DEIS for this proposed ITP action by identifying important issues and alternatives related to Champlin's proposed Project, to provide the public with a general understanding of the background of the proposed HCP and activities it would cover, and an overview of the NEPA process. In order to ensure that we identify a range of issues and alternatives related to the proposed ITP action, we invite comments and suggestions from all interested parties.

The scoping meeting will be held on November 13, 2013, from 5:30 p.m. to 9:00 p.m. at the Kahuku Village Association Community Center, 56576 Kamehameha Highway, Kahuku, Hawaii 96731. The meeting format will consist of an initial open house from 5:30 p.m. to 6:15 p.m. The open house format will provide an opportunity to learn about the proposed action, permit area, and the covered species. The open house will be followed by a formal presentation from 6:15 p.m. to 6:45 p.m. of the proposed action and a summary of the NEPA process, followed by an opportunity for oral comments from the public from 6:45 p.m. to 9:00 p.m. We will accept oral and written comments at the public meeting. A court reporter and an interpreter will be present if deemed necessary. You may also submit your comments and materials by one of the methods listed in the ADDRESSES section. Once the DEIS and draft HCP are complete and made available for review, there will be additional opportunity for public comment on the content of these documents through an additional public hearing and comment period.

Public Comments

We request data, comments, new information, or suggestions from the public, other concerned governmental agencies, the scientific community, native Hawaiian organizations, industry, or any other interested party on this notice. We and the applicant will consider these comments in developing the DEIS and the draft HCP related to the proposed Project. We particularly seek comments on the following:

1. The direct, indirect, and cumulative effects that implementation of any reasonable alternative to the proposed Project could have on endangered or threatened species and other unlisted species and their habitats;

2. Other reasonable alternatives to the proposed permit action for issuance of an ITP for the proposed Project or that avoid the need for an ITP that should be considered and their associated effects;

3. Relevant biological data and additional information concerning the proposed covered species;

4. Current or planned activities in the subject area and their possible impacts on the proposed covered species;

5. The presence of archaeological sites, buildings and structures, historic events, sacred and traditional areas, and other historic preservation concerns;

6. The scope of covered activities, including potential avoidance, minimization, and mitigation measures for incidental take of the proposed covered species;

7. Appropriate monitoring and adaptive management provisions that should be included in the HCP; and

8. Identification of any other environmental issues that should be considered with regard to the proposed Project and permit action.

Public Availability of Comments

Comments and materials we receive in response to this notice and at the public meeting, as well as supporting documentation we use in preparing the DEIS under NEPA, will become part of the public record and will be available for public inspection by appointment, during normal business hours, at the Service's Pacific Islands Fish and Wildlife Office (see ADDRESSES above). Before including your address, phone number, email address, or other personal identifying information in your comment(s), you should be aware that your entire comment(s)—including your personal identifying information—may be made publicly available at any time. While you can ask us in your comment(s) to withhold your personal identifying information from public review, we cannot guarantee that we will be able to do so.

Environmental Review and Next Steps

The Service will conduct an environmental review to analyze the proposed action, along with other alternatives considered and the associated impacts of each for the development of the DEIS. The DEIS will include an analysis of impacts on each covered species and the range of alternatives to be addressed. The DEIS is expected to provide biological descriptions of the affected species and habitats, as well as the effects of the alternatives on other resources, such as vegetation, wetlands, wildlife, geology and soils, air quality, water resources, water quality, cultural resources, land use, recreation, water use, the local economy, and environmental justice. Following completion of the environmental review, the Service will publish a notice of availability and request for public comments on the DEIS, Champlin's permit application, and the draft HCP. The DEIS and draft HCP are expected to be completed and available to the public in 2014.

Authority

The environmental review of this project will be conducted in accordance with the requirements of the NEPA of 1969, as amended (42 U.S.C. 4321 et seq.), Council on Environmental Quality Regulations (40 CFR Parts 1500—1508), other applicable Federal laws and regulations, and applicable policies and procedures of the Service. This notice is being furnished in accordance with 40 CFR 1501.7 of the NEPA regulations to obtain suggestions and information from other agencies and the public on the scope of issues and alternatives to be addressed in the DEIS.

Dated: October 18, 2013.
Richard R. Hannan,
Deputy Regional Director, Pacific Region, U.S. Fish and Wildlife Service, Portland, Oregon.

[FR Doc. 2013-26465 Filed 11-4-13; 8:45 am]

BILLING CODE 4310-55-P